SMALL BUSINESS ADMINISTRATION

[Disaster Declaration #10670 and #10671]

Kentucky Disaster #KY-00008

AGENCY: U.S. Small Business Administration.

ACTION: Notice.

SUMMARY: This is a notice of an Administrative declaration of a disaster for the Commonwealth of Kentucky dated October 25, 2006.

Incident: Severe Storms and Flooding.

Incident Period: September 22, 2006 through September 29, 2006.

Effective Date: October 25, 2006.

Physical Loan Application Deadline Date: December 26, 2006.

Economic Injury (EIDL) Loan Application Deadline Date: July 25, 2007.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties:

Fayette, Fulton, Hardin, and Woodford.

Contiguous Counties:

Kentucky: Anderson, Bourbon, Breckinridge, Bullitt, Clark, Franklin, Grayson, Hart, Hickman, Jefferson, Jessamine, Larue, Madison, Meade, Mercer, Nelson, and Scott.

Indiana: Harrison.

Missouri: Mississippi, and New Madrid.

Tennessee: Lake, and Obion.

The Interest Rates are:

| Percent
Homeowners With Credit Available Elsewhere | 6.250.
Homeowners Without Credit Available Elsewhere | 3.125.
Businesses With Credit Available Elsewhere | 7.934.
Businesses & Small Agricultural Cooperatives Without Credit Available Elsewhere | 4.000.
Other (Including Non-Profit Organizations) With Credit Available Elsewhere | 5.000.
Businesses And Non-Profit Organizations Without Credit Available Elsewhere | 4.000.

The number assigned to this disaster for physical damage is 10670 6 and for economic injury is 10671 0.

The States which received an EIDL Declaration # are Kentucky, Indiana, Missouri and Tennessee.

(Catalog of Federal Domestic Assistance Numbers 59002 and 59008)

Dated: October 25, 2006.
Steven C. Preston,
Administrator.

[FR Doc. E6-18289 Filed 10-30-06; 8:45 am]

BILLING CODE 8025-01-P